DEPARTMENT OF ENERGY

Federal Energy Regulatory Commission

[Docket No. EL00-95-012]

San Diego Gas & Electric Company Complainant, v. Sellers of Energy and Ancillary Services Into Markets Operated by the California Independent System Operator and the California Power Exchange, Respondents; Notice of Subdocket for Market Monitoring and Mitigation Plan

January 25, 2001.

Take notice that a subdocket has been established for all filings relevant to the market monitoring and mitigation issues involving the wholesale electric market in the state of California. All filings related to the technical conference held on January 23, 2001, and the issues discussed there should be filed in Docket No. EL00-95-012. Documents previously filed in Docket No. EL00-95-000, et al. need not be refiled in this subdocket and no additional petitions for intervention are required for parties in Docket No. EL00-95-000, et al. to participate in this subdocket.

David P. Boergers,
Secretary.

[FR Doc. 01-2598 Filed 1-30-01; 8:45 am]

BILLING CODE 6717-01-M